DEPARTMENT OF COMMERCE

International Trade Administration

[C-507-501; C-507-601]

Certain In-Shell Pistachios (C-507-501) and Certain Roasted In-Shell Pistachios (C-507-601) from the Islamic Republic of Iran: Final Results of New Shipper Countervailing Duty Reviews

AGENCY: Import Administration, International Trade Administration, Department of Commerce.

ACTION: Notice of Final Results of Countervailing Duty New Shipper Reviews.

SUMMARY: On September 4, 2002, the Department of Commerce (the Department) published in the Federal Register its preliminary results in the countervailing duty (CVD) new shipper reviews of certain in-shell pistachios and certain in-shell roasted pistachios from Iran.

The net subsidy rates in these Final Results differ from those of the Preliminary Results. The revised final net subsidy rates for the reviewed companies are listed below in the “Suspension of Liquidation” section of this notice.

EFFECTIVE DATE: January 31, 2003.

FOR FURTHER INFORMATION CONTACT: Darla Brown at (202) 482-2849 or Alicia Kinsey (202) 482-4793, Office of AD/CVD Enforcement VI, Group II, Import Administration, International Trade Administration, U.S. Department of Commerce, Room 4012, 14th Street and Constitution Avenue, N.W., Washington, D.C. 20230.

SUPPLEMENTARY INFORMATION:

Background

On September 4, 2002, the Department published the preliminary results of the new shipper reviews on certain in-shell pistachios and certain in-shell roasted pistachios from Iran. See Certain In-Shell Pistachios (C-507-501) and Certain Roasted In-Shell Pistachios (C-507-601) from the Islamic Republic of Iran: Preliminary Results of New Shipper Countervailing Duty Reviews, 67 FR 56534 (September 4, 2002) (Preliminary Results). In accordance with 19 CFR 351.214, these new shipper reviews cover only those producers or exporters for which a review was specifically requested. Accordingly, these new shipper reviews cover Tehran Negah Nima Trading Company (Nima) and nine programs.

We invited interested parties to comment on the Preliminary Results. On December 16, 2002, we received comments from interested parties. On December 23, 2002, we received rebuttal comments from interested parties. At the request of the Department, respondents submitted revised case brief and rebuttal comments on January 8, 2003, and petitioners submitted revised rebuttal comments on January 10, 2003 that removed new factual information that was included in their initial submissions. A public hearing was held at the Department of Commerce on January 13, 2003.

Scope of the Reviews

In-Shell Pistachios

The product covered by this new shipper review is in-shell pistachio nuts from which the hulls have been removed, leaving the inner hard shells and edible meat, as currently classifiable in the Harmonized Tariff Schedules of the United States (HTSUS) under item number 0802.50.20.00. The written description of the scope of this proceeding is dispositive.

Roasted In-Shell Pistachios

The product covered by this new shipper review is all roasted in-shell pistachio nuts, whether roasted in Iran or elsewhere, from which the hull has been removed, leaving the inner hard shells and the edible meat, as currently classifiable in the HTSUS under item number 0802.50.20.00. The written description of the scope of this proceeding is dispositive.

Analysis of Comments Received

All issues raised in the case and rebuttal briefs by parties to these new shipper reviews are addressed in the “Issues and Decision Memorandum” (Decision Memorandum) dated January 24, 2003, which is hereby adopted by this notice. A list of issues which parties have raised and to which we have responded, all of which are in the Decision Memorandum, is attached to this notice as Appendix I. Parties can find a complete discussion of all issues raised in these reviews and the corresponding recommendations in this public memorandum which is on file in room B-099 of the Main Commerce Building. In addition, a complete version of the Decision Memorandum can be accessed directly on the World Wide Web at http://www.ia.ita.doc.gov, under the heading “Federal Register Notices.” The paper copy and electronic version of the Decision Memorandum are identical in content.

Suspension of Liquidation

In accordance with section 705(c)(1)(B)(i)(I) of the Tariff Act of 1930, as amended (the Act), we have calculated individual rates for the company under these new shipper reviews. For the period October 1, 2000, to September 30, 2001, we determine the net subsidy rates for the company under these new shipper reviews to be as follows:

Certain Raw In-Shell Pistachios
Producer/Exporter | Net Subsidy Rate
Tehran Negah Nima Trading Company, Inc. | 23.18 percent ad valorem

Certain Roasted In-Shell Pistachios
Producer/Exporter | Net Subsidy Rate
Tehran Negah Nima Trading Company, Inc. | 21.68 percent ad valorem

Bonding is no longer permitted to fulfill security requirements for shipments from Tehran Negah Nima Trading Company, Inc. (Nima) of certain raw in-shell pistachios and certain roasted in-shell pistachios from Iran entered, or withdrawn from warehouse, for consumption on or after the publication date of the final results of these new shipper reviews. As Nima is the exporter but not the producer of subject merchandise, the Department's final results will apply to certain raw in-shell pistachios and certain roasted in-shell pistachios from Iran exported by Nima and produced by Maghsoudi Farms. See 19 CFR 351.107(b).

The following deposit requirements will be effective upon publication of this notice of final results of these new shipper reviews for all shipments of certain raw in-shell pistachios and certain roasted in-shell pistachios from Iran entered, or withdrawn from warehouse, for consumption on or after the date of publication, as provided by section 751(a)(2)(B) of the Act: (1) For the merchandise exported by Nima and produced by Maghsoudi Farms, the cash deposit rates will be equal to the net subsidy rates listed above; (2) for subject merchandise exported by Nima but not produced by Maghsoudi Farms, the cash deposit rate will be the “all others” rate established in the original CVD investigations. See Final Affirmative Countervailing Duty Determination and Countervailing Duty Order: In-Shell Pistachios from Iran, 51 FR 8344 (March 11, 1986) and Final Affirmative Countervailing Duty Determination and Countervailing Duty Order: Roasted In-Shell Pistachios from Iran, 51 FR 35679 (October 7, 1986); (3) if the exporter is not a firm covered in these new shipper reviews, a prior review, or the CVD investigations, but the manufacturer is, the cash deposit rates will be the rates established for the most recent period for the manufacturer of the merchandise; and (4) if neither the exporter nor manufacturer is a firm covered in these new shipper reviews or the original investigations, the cash deposit rates will continue to be the “all others” rates established in the original CVD investigations.

Return or Destruction of Proprietary Information

This notice will serve as the only reminder to parties subject to Administrative Protective Order (APO) of their responsibility concerning the destruction of proprietary information disclosed under APO in accordance with 19 CFR 351.305(a)(3). Failure to comply is a violation of the APO.

This determination is published pursuant to sections 705(d) and 777(i) of the Act.

Dated: January 24, 2003.
Faryar Shirzad,
Assistant Secretaryfor Import Administration.

Appendix I - Issues and Decision Memorandum

Methodology and Background Information

Analysis of Programs

I. Use of Facts Available

II. Programs Determined to Confer Subsidies

A. Provision of Fertilizer and Machinery

B. Provision of Water and Irrigation equipment

C. Provision of Credit

D. Technical Support from the GOI

E. Duty Refunds on Imported Raw or Intermediate Materials Used in the Production of Exported Goods

F. Program to Improve Quality of Exports of Dried Fruit

III. Program Determined to Be Not Countervailable

A. Price Supports and/or Guaranteed Purchase of All Production

IV. Programs Determined to Be Not Used

A. Export Certificate Voucher Program

B. Tax Exemptions

V. Total Ad Valorem Rate

VI. Analysis of Comments

Comment 1: Discovery of Additional Farm Does Not Render Nima Ineligible for a New Shipper Review

Comment 2: Nima's Sale of Subject Merchandise to the United States Is Bona Fide

Comment 3: Application of Adverse Facts Available to Grower-Related Subsidies

Comment 4: Undisclosed Benefits Relating to Maghsoudi Farms' Land Title

Comment 5: Application of Adverse Facts Available to the Price Supports and/or Guaranteed Purchase of Production Program

Comment 6: Application of Adverse Facts Available to the Provision of GOI Credit Program

Comment 7: Application of Adverse Facts Available to the Provision of Fertilizer and Machinery Program

Comment 8: Application of Adverse Facts Available to the Tax Exemption Program

Comment 9: Application of Adverse Facts Available to the Water and Irrigation Program

Comment 10: Application of Adverse Facts Available to the Technical Assistance Program

Comment 11: Application of Adverse Facts Available to the Program for Imported Raw or Intermediate Materials Used in the Production of Exported Goods

Comment 12: Application of Adverse Facts Available to the Program to Improve Quality of Exports of Dried Fruit

Comment 13: Application of Adverse Facts Available to the Export Certificate Voucher Program

Comment 14: Application of a Combination Rate Limited to Production Exported by Nima from the Single Farm Disclosed by Maghsoudi

Comment 15: Completeness and Accuracy of Data Reported by Nima

Comment 16: Reliability of Sales Information Submitted by Fallah Pistachios

[FR Doc. 03-2330 Filed 1-30-03; 8:45 am]

BILLING CODE 3510-DS-S